DEPARTMENT OF TRANSPORTATION

Federal Motor Carrier Safety Administration

[Docket No. FMCSA-2025-0008]

Qualification of Drivers; Exemption Applications; Epilepsy and Seizure Disorders

AGENCY: Federal Motor Carrier Safety Administration (FMCSA), Department of Transportation (DOT).

ACTION: Notice of applications for exemption; request for comments.

SUMMARY: FMCSA announces receipt of applications from 32 individuals from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce.

FOR FURTHER INFORMATION CONTACT: Ms. Christine A. Hydock, Chief, Medical Programs Division, FMCSA, Department of Transportation, 1200 New Jersey Avenue SE, Washington, DC 20590-0001; (202) 366-4001; fmcsamedical@dot.gov. Office hours are from 8:30 a.m. to 5 p.m. ET Monday through Friday, except Federal holidays. If you have questions regarding viewing material in the docket, contact Dockets Operations, (202) 366-9826.

SUPPLEMENTARY INFORMATION:

I. Public Participation

FMCSA encourages you to participate by submitting comments and related materials.

A. Submitting Comments

If you submit a comment, please include the docket number for this notice (FMCSA-2025-0008) indicate the specific section of this document to which the comment applies and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov/docket/FMCSA-2025-0008, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned as being available in the docket, go to https://www.regulations.gov/docket/FMCSA-2025-0008/document and choose the document to review. To view comments, click this notice, then click “Browse Comments.” If you do not have access to the internet, you may view the docket online by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved absent such exemption, pursuant to 49 U.S.C. 31315(b)(1). The Agency must publish its decision in the Federal Register (49 CFR 381.315(b)). If granted, the notice will identify the regulatory provision from which the applicant will be exempt the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding seizures and loss of consciousness provides that a person is physically qualified to drive a CMV if that person has “no established medical history or clinical diagnosis of epilepsy or any other condition which is likely to cause the loss of consciousness or any loss of ability to control” a CMV (49 CFR 391.41(b)(8)). To assist in applying this standard, FMCSA publishes guidance for medical examiners (ME) in the form of medical advisory criteria in Appendix A to 49 CFR part 391.¹ In 2007, FMCSA published recommendations from a Medical Expert Panel (MEP) that FMCSA tasked to review the existing seizure disorder guidelines for MEs.² The MEP performed a comprehensive, systematic literature review, including evidence available at the time. The MEP issued recommended criteria to evaluate whether an individual with a history of epilepsy, a single unprovoked seizure, or a provoked seizure should be allowed to drive a CMV.

¹ 49 CFR part 391, App.A.II.G, available at https://www.ecfr.gov/current/title-49/subtitle-B/chapter-III/subchapter-B/part-391/appendix-Appendix%20A%20to%20Part%20391.

² “Expert Panel Recommendations, Seizure Disorders and Commercial Motor Vehicle Driver Safety,” Medical Expert Panel (Oct. 15, 2007), available at https://www.fmcsa.dot.gov/sites/fmcsa.dot.gov/files/2020-04/Seizure-Disorders-MEP-Recommendations-v2-prot%2010152007.pdf.

On January 15, 2013, FMCSA began granting exemptions on a case-by-case basis to individual drivers from the physical qualification standard regarding seizures and loss of consciousness in 49 CFR 391.41(b)(8) (78 FR 3069). The Agency considers the medical advisory criteria, the 2007 MEP recommendations, and each individual's medical information and driving record in deciding whether to grant the exemption.

The 32 individuals listed in this notice have requested an exemption from the epilepsy and seizure disorders prohibition in 49 CFR 391.41(b)(8). Accordingly, the Agency will evaluate the qualifications of each applicant to determine whether granting the exemption will achieve the required level of safety mandated by statute.

IV. Qualifications of Applicants

Jarrett Benjamin

Jarrett Benjamin is a 25-year-old class BM commercial driver's license (CDL) holder in New York. They have a history of generalized convulsive epilepsy and have been seizure free since March 2019. They take anti-seizure medication with the dosage and frequency remaining the same since June 2018. Their physician states that they are supportive of Jarrett Benjamin receiving an exemption.

Christopher Brandt

Christopher Brandt is a 27-year-old class A CDL holder in New York. They have a history of seizure disorder and have been seizure free since 2004. They take anti-seizure medication with the dosage and frequency remaining the same since December 2020. Their physician states that they are supportive of Christopher Brandt receiving an exemption.

Donald Buck

Donald Buck is a 52-year-old class D license holder in Ohio. They have a history of post-traumatic epilepsy and have been seizure free since July 2019. They take anti-seizure medication with the dosage and frequency remaining the same since August 2, 2019. Their physician states that they are supportive of Donald Buck receiving an exemption.

Wyatt Chisamore

Wyatt Chisamore is a 19-year-old class D license holder in Vermont. They have a history of nocturnal left centro-temporo-parietal epilepsy and have been seizure free since July 2017. They take anti-seizure medication with the dosage and frequency remaining the same since January 17, 2024. Their physician states that they are supportive of Wyatt Chisamore receiving an exemption.

Teagan Clark

Teagan Clark is a 27-year-old class C license holder in North Carolina. They have a history of unprovoked seizures and have been seizure free since March 9, 2023. They take anti-seizure medication with the dosage and frequency remaining the same since February 2023. Their physician states that they are supportive of Teagan Clark receiving an exemption.

Derrick Cudd

Derrick Cudd is a 23-year-old class C license holder in Iowa. They have a history of generalized nonconclusive seizures and have been seizure free since December 14, 2015. They take anti-seizure medication with the dosage and frequency remaining the same since December 27, 2022. Their physician states that they are supportive of Derrick Cudd receiving an exemption.

Zane DeGroff

Zane DeGroff is a 23-year-old class D license holder in Utah. They have a history of generalized epilepsy and have been seizure free since May 16, 2022. They take anti-seizure medication with the dosage and frequency remaining the same since May 16, 2022. Their physician states that they are supportive of Zane DeGroff receiving an exemption.

Charles Elliott

Charles Elliott is a 79-year-old class E license holder in Missouri. They have a history of focal seizures and have been seizure free since 2022. They take anti-seizure medication with the dosage and frequency remaining the same since 2022. Their physician states that they are supportive of Charles Elliott receiving an exemption.

Jonathan Flight

Jonathan Flight is a 26-year-old class A CDL holder in Nebraska. They have a history of complex partial epilepsy and have been seizure free since 2019. They take anti-seizure medication with the dosage and frequency remaining the same since December 2021. Their physician states that they are supportive of Jonathan Flight receiving an exemption.

Jason Griese

Jason Griese is a 44-year-old class 2 license holder in South Dakota. They have a history of epilepsy and have been seizure free since April 12, 2024. They take anti-seizure medication with the dosage and frequency remaining the same since June 20, 2024. Their physician states that they are supportive of Jason Griese receiving an exemption.

Jacob Griffin

Jacob Griffin is a 21-year-old class BCD CDL holder in Wisconsin. They have a history of possible rolandic epilepsy and have been seizure free since June 2014. They take anti-seizure medication with the dosage and frequency remaining the same since 2018. Their physician states that they are supportive of Jacob Griffin receiving an exemption.

Andrew Harenchar

Andrew Harenchar is a 51-year-old class D license holder in Ohio. They have a history of localization- related consciousness impaired seizures with secondary generalization and have been seizure free since March 15, 2020. They take anti-seizure medication with the dosage and frequency remaining the same since June 13, 2023. Their physician states that they are supportive of Andrew Harenchar receiving an exemption.

Darren Holthaus

Darren Holthaus is a 57-year-old class A CDL holder in Kansas. They have a history of single provoked seizure and have been seizure free since February 2019. They take anti-seizure medication with the dosage and frequency remaining the same since 2019. Their physician states that they are supportive of Darren Holthaus receiving an exemption.

John Honey

John Honey is a 36-year-old class A CDL holder in Montana. They have a history of unprovoked seizure and have been seizure free since March 4, 2024. They take anti-seizure medication with the dosage and frequency remaining the same since March 4, 2024. Their physician states that they are supportive of John Honey receiving an exemption.

Aaron Johnson

Aaron Johnson is a 21-year-old class B commercial learner permit holder in North Carolina. They have a history of seizure disorder and have been seizure free since November 19, 2023. They have never taken anti-seizure medication. Their physician states that they are supportive of Aaron Johnson receiving an exemption.

James Klucas

James Klucas is a 55-year-old class A CDL holder in Kansas. They have a history of generalized convulsive epilepsy and have been seizure free since 1999. They take anti-seizure medication with the dosage and frequency remaining the same since December 19, 2023. Their physician states that they are supportive of James Klucas receiving an exemption.

Kenneth Lone

Kenneth Lone is a 70-year-old class B CDL holder in Utah. They have a history of metastatic melanoma and have been seizure free since February 2023. They take anti-seizure medication with the dosage and frequency remaining the same since April 2023. Their physician states that they are supportive of Kenneth Lone receiving an exemption.

Ashley Marshall

Ashley Marshall is a 38-year-old class B CDL holder in Maine. They have a history of seizure disorder and have been seizure free since March 2019. They take anti-seizure medication with the dosage and frequency remaining the same since April 2019. Their physician states that they are supportive of Ashley Marshall receiving an exemption.

Nathan Moe

Nathan Moe is a 30-year-old class D license holder in Minnesota. They have a history of epilepsy and have been seizure free since December 2021. They take anti-seizure medication with the dosage and frequency remaining the same since August 2022. Their physician states that they are supportive of Nathan Moe receiving an exemption.

Aaron Moore

Aaron Moore is a 26-year-old class A CDL license holder in Rhode Island. They have a history of a single provoked seizure and have been seizure free since January 13, 2024. They take anti-seizure medication with the dosage and frequency remaining the same since July 12, 2024. Their physician states that they are supportive of Aaron Moore receiving an exemption.

Dale Mosely

Dale Mosely is a 53-year-old regular operator license holder in Indiana. They have a history of complex partial seizures and have been seizure free since December 21, 2022. They take anti-seizure medication with the dosage and frequency remaining the same since November 12, 2020. Their physician states that they are supportive of Dale Mosely receiving an exemption.

Jeffrey Muller

Jeffrey Muller is a 51-year-old class C license holder in Pennsylvania. They have a history of epilepsy and have been seizure free since December 25, 2020. They take anti-seizure medication with the dosage and frequency remaining the same since 2020. Their physician states that they are supportive of Jeffrey Muller receiving an exemption.

Francis Palumbo

Francis Palumbo is a 43-year-old class 10 license holder in Rhode Island. They have a history of epilepsy and have been seizure free since February 15, 2024. They take anti-seizure medication with the dosage and frequency remaining the same since February 15, 2024. Their physician states that they are supportive of Francis Palumbo receiving an exemption.

William Roberson

William Roberson is a 35-year-old class DV license holder in Alabama. They have a history of epilepsy and have been seizure free since August 24, 2023. They take anti-seizure medication with the dosage and frequency remaining the same since August 2023. Their physician states that they are supportive of William Roberson receiving an exemption.

Ernest Sang

Ernest Sang is a 55-year-old class A CDL holder in North Carolina. They have a history of provoked single seizure and have been seizure free since August 8, 2020. They take anti-seizure medication with the dosage and frequency remaining the same since 2020. Their physician states that they are supportive of Ernest Sang receiving an exemption.

Robert Schauer

Robert Schauer is a 40-year-old class A CDL holder in Iowa. They have a history of epilepsy and have been seizure free since August 2012. They take anti-seizure medication with the dosage and frequency remaining the same since April 2017. Their physician states that they are supportive of Robert Schauer receiving an exemption.

Corbin Shoppell

Corbin Shoppell is a 24-year-old regular operator license holder in Indiana. They have a history of seizure disorder and have been seizure free since May 2021. They take anti-seizure medication with the dosage and frequency remaining the same since 2021. Their physician states that they are supportive of Corbin Shoppell receiving an exemption.

Marc Stoltenberg

Marc Stoltenberg is a 27-year-old class D license holder in Minnesota. They have a history of a provoked seizure and have been seizure free since September 17, 2022. They take anti-seizure medication with the dosage and frequency remaining the same since 2022. Their physician states that they are supportive of Marc Stoltenberg receiving an exemption.

John Trout

John Trout is a 19-year-old class C license holder in Maryland. They have a history of generalized tonic clonic epilepsy and have been seizure free since February 2020. They take anti-seizure medication with the dosage and frequency remaining the same since June 2020. Their physician states that they are supportive of John Trout receiving an exemption.

Austin Wickizer

Austin Wickizer is a 19-year-old class D license holder in Virginia. They have a history of epilepsy and have been seizure free since November 2018. They take anti-seizure medication with the dosage and frequency remaining the same since October 2018. Their physician states that they are supportive of Austin Wickizer receiving an exemption.

Joshua Willits

Joshua Willits is a 31-year-old class C license holder in Pennsylvania. They have a history of generalized epilepsy and have been seizure free since February 7, 2022. They take anti-seizure medication with the dosage and frequency remaining the same since February 11, 2022. Their physician states that they are supportive of Joshua Willits receiving an exemption.

Alan Wilson

Alan Wilson is a 63-year-old class A CDL holder in New Hampshire. They have a history of an unprovoked seizure and have been seizure free since June 1, 2024. They take anti-seizure medication with the dosage and frequency remaining the same since July 8, 2024. Their physician states that they are supportive of Alan Wilson receiving an exemption.

V. Request for Comments

In accordance with 49 U.S.C. 31136(e) and 31315(b), FMCSA requests public comment from all interested persons on the exemption petitions described in this notice. We will consider all comments received before the close of business on the closing date indicated under the DATES section of the notice.

Jarrett Benjamin (NY)

Donald Buck (OH)

Christopher Brandt (NY)

Wyatt Chisamore (VT)

Teagan Clark (NC)

Derrick Cudd (IA)

Zane DeGroff (UT)

Charles Elliott (MO)

Jonathan Flight (NE)

Jason Griese (ND)

Jacob Griffin (WI)

Andrew Harenchar (OH)

Darren Holthaus (KS)

John Honey (MT)

Aaron Johnson (NC)

James Klucas (KA)

Kenneth Lone (UT)

Ashley Marshall (ME)

Nathan Moe (MN)

Aaron Moore (RI)

Dale Mosely (IN)

Jeffrey Muller (PA)

Francis Palumbo (RI)

William Roberson (AL)

Ernest Sang (NC)

Robert Schauer (IA)

Corbin Shoppell (IN)

Marc Stoltenberg (MN)

John Trout (MD)

Austin Wickizer (VA)

Joshua Willits (PA)

Alan Wilson (NH)

Larry W. Minor,
Associate Administrator for Policy.

[FR Doc. 2025-05252 Filed 3-26-25; 8:45 am]

BILLING CODE 4910-EX-P